DEPARTMENT OF ENERGY

Western Area Power Administration

Revised Open Access Transmission Service Tariff

AGENCY: Western Area Power Administration, DOE

ACTION: Notice of informal meeting and comment opportunity.

SUMMARY: The Western Area Power Administration (Western) is revising its Open Access Transmission Service Tariff (Tariff). Western intends to update provisions of its Tariff consistent with the Federal Energy Regulatory Commission's (FERC) amended pro forma open access transmission tariff. Changes are being proposed to Western's Tariff to the extent it is able to incorporate the pro forma provisions consistent with applicable statutory requirements. Publication of this Federal Register announces a public meeting and opportunity for informal comments on Western's revised Tariff prior to filing with the FERC.

DATES: Western will accept comments on the revised Tariff until the close of the informal comment period on July 1, 2009. Western will present an explanation of the revised Tariff at an informal public meeting to be held on June 2, 2009.

ADDRESSES: The public meeting location is Western Area Power Administration, 12155 W. Alameda Parkway, Lakewood, CO 80228. Send written comments to Corporation Communications, Western Area Power Administration, P.O. Box 281213, Lakewood, CO 80228; by e-mail to: tariffcomments@wapa.gov; or by fax to (720) 962-7059.

FOR FURTHER INFORMATION CONTACT: For substantive questions, contact Bob Kennedy, Tariff Project Manager, Western Area Power Administration, Lakewood, Colorado, at (720) 962-7249. For information on the informal meeting, copies of documents posted on Western's Web site, or for questions on how to submit comments, contact Carolyn Hinkley, Corporate Communications, Western Area Power Administration, Lakewood, Colorado, at (720) 962-7053. Both individuals may be contacted by e-mail at tariffcomments@wapa.gov.

SUPPLEMENTARY INFORMATION: Western is a Federal power marketing administration, charged with the responsibility of selling and transmitting wholesale electrical power from 56 power plants operated by the Bureau of Reclamation, the Corps of Engineers and the International Boundary and Water Commission. Created in 1977, pursuant to section 302 of the Department of Energy Organization Act, Western markets and transmits Federal power resources from various multi-purpose hydroelectric projects to customers in 15 Central and Western States. Western has four Customer Service Regional Offices and the Colorado River Storage Project Management Center, each referred to in the revised Tariff as a Regional Office.

Public utilities are required to file an open access transmission tariff with the FERC which provides non-discriminatory access to their transmission systems. While Western is not a public utility under section 205 of the Federal Power Act, Western has on file with the FERC an open access transmission tariff that is consistent with or superior to the FERC's pro forma tariff. Western's Tariff allows it to receive reciprocal treatment from public utilities that are subject to FERC jurisdiction. Open access filings by non-jurisdictional entities such as Western are referred to as “safe harbor” tariffs. Western's existing Tariff was approved by the FERC on September 6, 2007, and was effective on May 21, 2007, consistent with the FERC's June 28, 2007, Order (119 FERC ¶ 61,329).

On February 15, 2007, the FERC issued Order No. 890, Preventing Undue Discrimination and Preference in Transmission Service (FERC Stats. & Regs. ¶ 31,241 (2007)) (Order 890), to amend its regulations and the pro forma open access transmission tariff. Order 890, as amended, will help ensure that transmission service is provided on a nondiscriminatory, just and reasonable basis; provide the foundation for a competitive electric power market; and provide for more effective regulation and transparency in the operation of the transmission grid.

Order No. 890 requires all public utilities that own, control, or operate facilities used for transmission of electric energy in interstate commerce to modify their open access transmission tariffs to incorporate Order 890, and requires non-public utilities with a “safe harbor” Tariff to adopt the pro forma Order 890 tariff to retain “safe harbor” status. Western seeks to retain its “safe harbor” status through compliance with the spirit and intent of Order 890, as amended, to the extent consistent with applicable law.

Western will accept comments on the revised Tariff until the close of the informal comment period on July 1, 2009. Western will present an explanation of the revised Tariff at an informal public meeting to be held on June 2, 2009, at 10 a.m. MDT, followed by a public comment forum at 11 a.m. MDT, both at Western's Corporate Services Office at 12155 W. Alameda Parkway in Lakewood, Colorado. These meetings are expected to conclude by 12:30 p.m. Western will accept oral and written comments at the comment forum and will accept written comments at any time during the informal comment period.

The revised Tariff, a summary of changes Western intends to make to its existing Tariff, and information about the Tariff process are posted on Western's Web site at http://www.wapa.gov/transmission/oatt.htm. Unless the comment period is extended or delayed, Western anticipates posting the revised Tariff and responses to comments received on Western's Web site and OASIS sites in August 2009. Western will post comments received at the public meeting or by letter, fax or e-mail to this Web site after the close of the comment period. Responses to comments will also be posted after they are developed. Western must receive written comments by the end of the informal comment period to ensure they are considered in Western's filing with the FERC.

As access to Western's facilities is controlled, any U.S. citizen wishing to attend meetings at Western must present a government-issued form of picture identification, such as a U.S. driver's license, U.S. passport, U.S. government ID, or U.S. military ID, at the time of the meeting. Foreign nationals should contact Western at least 15 days in advance of this meeting to obtain the necessary form for admittance to the meeting.

Dated: May 1, 2009.
Timothy J. Meeks,
Administrator.

[FR Doc. E9-11524 Filed 5-15-09; 8:45 am]

BILLING CODE P